DEPARTMENT OF JUSTICE

Executive Office for Immigration Review

8 CFR Parts 1003, 1208, and 1240

[Docket No. EOIR-26-AB37; Dir. Order No. 03-2026]

RIN 1125-AB37

Appellate Procedures for the Board of Immigration Appeals; Extension of Comment Period

AGENCY: Executive Office for Immigration Review, Department of Justice.

ACTION: Interim final rule; extension of comment period.

SUMMARY: On February 6, 2026, the Executive Office for Immigration Review (“EOIR”) published in the Federal Register the interim final rule (“IFR”) “Appellate Procedures for the Board of Immigration Appeals” with comments originally due March 9, 2026. This document extends the deadline for written comments to April 8, 2026.

DATES: The comment period for the IFR published February 6, 2026, at 91 FR 5267, is extended. Comments must be received by EOIR no later than April 8, 2026.

ADDRESSES: If you wish to provide comments regarding this rulemaking, you must submit your comments, identified by the agency name and reference RIN 1125-AB37 or EOIR Docket No. EOIR-26-AB37, by one of the two methods below.

• Federal eRulemaking Portal: https://www.regulations.gov. Follow the website instructions for submitting comments.

• Mail: Paper comments that duplicate an electronic submission are unnecessary. If you wish to submit a paper comment in lieu of electronic submission, please direct the mail/shipment to: Jamee E. Comans, Acting Assistant Director, Office of Policy, Executive Office for Immigration Review, 5107 Leesburg Pike, Suite 2500, Falls Church, VA 22041. To ensure proper handling, please reference the agency name and RIN 1125-AB37 or EOIR Docket No. EOIR-26-AB37 on your correspondence. Mailed items must be postmarked or otherwise indicate a shipping date on or before the submission deadline.

A summary of this rule may be found in the docket for this rulemaking at https://www.regulations.gov.

FOR FURTHER INFORMATION CONTACT: Jamee E. Comans, Acting Assistant Director, Office of Policy, Executive Office for Immigration Review, 5107 Leesburg Pike, Suite 2500, Falls Church, VA 22041; telephone (703) 305-0289.

SUPPLEMENTARY INFORMATION: On February 6, 2026, EOIR published in the Federal Register the IFR titled “Appellate Procedures for the Board of Immigration Appeals”, 91 FR 5267, which amended Department of Justice regulations to streamline administrative appellate review by the Board of Immigration Appeals (“Board”) of decisions by Immigration Judges by making review of such decisions on the merits discretionary, by setting appropriate times for briefing in cases that are reviewed on the merits, and by streamlining other aspects of the appellate process to ensure timely adjudications and avoid adding to the already sizeable backlog at the Board. Additionally, the IFR made various technical and non-substantive changes to the Department's regulations.

As explained in the IFR, it is exempt from the Administrative Procedure Act's notice-and-comment requirements. See 91 FR 5274-75. However, in response to a request from a group of interested organizations, and to allow for commenters to have additional time to review and submit comments, the EOIR Director, by authority delegated to him by Attorney General Order Number 6260-2025, is extending the comment period for this rule (RIN 1125-AB37) by 30 days.

Daren K. Margolin,
Director, Executive Office for Immigration Review, Department of Justice.

[FR Doc. 2026-03932 Filed 2-26-26; 8:45 am]

BILLING CODE 4410-30-P